DEPARTMENT OF VETERANS AFFAIRS

[OMB Control No. 2900-0712]

Agency Information Collection Activity Under OMB Review: Survey of Healthcare Experiences of Patients (SHEP)

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0712.”

FOR FURTHER INFORMATION CONTACT: Maribel Aponte, Office of Enterprise and Integration, Data Governance Analytics (008), 1717 H Street NW, Washington, DC 20006, (202) 266-4688 or email maribel.aponte@va.gov. Please refer to “OMB Control No. 2900-0712” in any correspondence.

SUPPLEMENTARY INFORMATION:

Authority: 44 U.S.C. 3501-21.

Title: Survey of Healthcare Experiences of Patients (SHEP).

OMB Control Number: 2900-0712.

Type of Review: Reinstatement of a previously approved collection.

Abstract: Survey of Healthcare Experience of Patients (SHEP) has been developed to measure patient satisfaction in the Veterans Health Administration and has been in use in its present form since 2008. The mission of VHA is to provide high quality medical care to eligible veterans. Executive Order 12862, dated September 11, 1993, called for the establishment and implementation of customer service standards, and for agencies to “survey customers to determine the kind and quality of services they want and their level of satisfaction with current services.” Further emphasized by the Executive Order 13571 on “Streamlining Service Delivery and Improving Customer Service,” issued on April 27, 2011, VA must work continuously to ensure that their programs are effective and meet their customers' needs. To this end, VA is always seeking new and innovative ways to ensure the highest levels of customer satisfaction. The following is a list of the current SHEP surveys.

10-1465-1: SHEP Inpatient Long Form

10-1465-2: SHEP Inpatient Short Form

10-1465-3: Ambulatory Care Long Form

10-1465-4: Ambulatory Care Short Form

10-1465-5: Patient Centered Medical Home Short Form

10-1465-6: Patient Centered Medical Home Long Form

10-1465-7: Home Health Care Survey Long Form

10-1465-8: In-Center Hemodialysis Care Long Form

10-1465-9: Specialty Care Survey

10-1465-10: VA Community Care Survey

An agency may not conduct or sponsor, and a person is not required to respond to a collection of information unless it displays a currently valid OMB control number. The Federal Register Notice with a 60-day comment period soliciting comments on this collection of information was published at 86 FR 64 on April 6, 2021, pages 17891 and 17892.

Affected Public: Individuals and households.

Estimated Annual Burden: Total Hours = 176,640.

10-1465-1—160 hours.

10-1465-2—18,000 hours.

10-1465-3—160 hours.

10-1465-4—120 hours.

10-1465-5—48,000 hours.

10-1465-6—8,000 hours.

10-1465-7—80 hours.

10-1465-8—120 hours.

10-1465-9—30,000 hours.

10-1465-10—72,000 hours.

Estimated Average Burden per Respondent:

10-1465-1—20 minutes.

10-1465-2—15 minutes.

10-1465-3—20 minutes.

10-1465-4—15 minutes.

10-1465-5—10 minutes.

10-1465-6—20 minutes.

10-1465-7—10 minutes.

10-1465-8—15 minutes.

10-1465-9—15 minutes.

10-1465-10—15 minutes.

Frequency of Response: Once annually.

Estimated Number of Respondents: Total Number of Respondents = 794,400.

10-1465-1—480.

10-1465-2—72,000.

10-1465-3—480.

10-1465-4—480.

10-1465-5—288,000.

10-1465-6—24,000.

10-1465-7—480.

10-1465-8—480.

10-1465-9—120,000.

10-1465-10—288,000.

By direction of the Secretary.
Maribel Aponte,
VA PRA Clearance Officer, Office of Enterprise and Integration, Data Governance Analytics, Department of Veterans Affairs.

[FR Doc. 2021-13142 Filed 6-22-21; 8:45 am]

BILLING CODE 8320-01-P